DEPARTMENT OF LABOR

Office of the Secretary

Job Corps: Final Finding of No Significant Impact (FONSI) for the Proposed Job Corps Center To Be Located at the Dome Industrial Park on 5th Avenue and 22nd Street in St. Petersburg, FL

AGENCY: Office of the Secretary (OSEC), Department of Labor.

ACTION: Final Finding of No Significant Impact (FONSI) for the proposed Job Corps Center to be located at the Dome Industrial Park on 5th Avenue and 22nd Street in St. Petersburg, Florida.

SUMMARY: Pursuant to the Council on Environmental Quality Regulations (40 CFR part 1500-08) implementing procedural provisions of the National Environmental Policy Act (NEPA), the Department of Labor, Office of the Secretary (OSEC), in accordance with 29 CFR 11.11(d), gives final notice of the proposed construction of a new Job Corps Center at Dome Industrial Park on 5th Avenue and 22nd Street in St. Petersburg, Florida, and that this construction will not have a significant adverse impact on the environment. In accordance with 29 CFR 11.11(d) and 40 CFR 1501.4(e)(2), a preliminary FONSI for the new Job Corps Center was published in the April 7, 2006 Federal Register (71 FR 17916-17917). No comments were received regarding the preliminary FONSI. ETA has reviewed the conclusion of the environmental assessment (EA), and agrees with the finding of no significant impact. This notice serves as the Final Finding of No Significant Impact for the new Job Corps Center at Dome Industrial Park on 5th Avenue and 22nd Street in St. Petersburg, Florida. The preliminary FONSI and the EA are adopted in final with no change.

DATES: Effective Date: These findings are effective as of May 31, 2006.

FOR FURTHER INFORMATION CONTACT: Michael F. O'Malley, Architect, Unit Chief of Facilities, U.S. Department of Labor, Office of the Secretary (OSEC), 200 Constitution Avenue, NW., Room N-4460, Washington, DC 20210, (202) 693-3108 (this is not a toll-free number).

Dated this 24th day of May, 2006.
Esther R. Johnson,
National Director of Job Corps.

[FR Doc. E6-8369 Filed 5-30-06; 8:45 am]

BILLING CODE 4510-23-P